DEPARTMENT OF COMMERCE

International Trade Administration

[C-475-819]

Certain Pasta from Italy; Rescission of Antidumping Administrative Review; 2019

AGENCY: Enforcement and Compliance, International Trade Administration, Department of Commerce.

SUMMARY: The Department of Commerce (Commerce) is rescinding the administrative review of the countervailing duty (CVD) order on certain pasta from Italy for the period of review (POR) January 1, 2019, through December 31, 2019, based on the timely withdrawal of the requests for review.

DATES: Applicable December 28, 2020.

FOR FURTHER INFORMATION CONTACT: Konrad Ptaszynski, AD/CVD Operations, Office I, Enforcement and Compliance, International Trade Administration, U.S. Department of Commerce, 1401 Constitution Avenue NW, Washington, DC 20230; telephone: (202) 482- 6187.

SUPPLEMENTARY INFORMATION:

Background

On July 1, 2020, Commerce published in the Federal Register a notice of opportunity to request an administrative review of the CVD order on certain pasta from Italy for the period January 1, 2019 through December 31, 2019.¹ By July 31, 2020, Commerce received timely requests for an administrative review from Armonie D'Italia S.r.l. (Armonie), Pastificio Fratelli De Luca S.r.l. (Fratelli), Pastificio C.A.M.S. S.r.l (CAMS), and Industria Alimentare Colavita, S.p.A (Colavita), in accordance with section 751(a) of the Tariff Act of 1930, as amended (the Act), and 19 CFR 351.213(b). ² Commerce received no other requests for administrative review.

¹ See Antidumping or Countervailing Duty Order, Finding, or Suspended Investigation; Opportunity to Request Administrative Review, 85 FR 39531 (July 1, 2020).

² See Armonie's Letter, “Certain Dry Pasta from Italy; C-475-819; Request for Administrative Review,” dated July 28, 2020; Fratelli's Letter, “Certain Dry Pasta from Italy; C-475-819; Request for Administrative Review,” dated July 28, 2020; CAMS' Letter, “Certain Dry Pasta from Italy; C-475-819; Request for Administrative Review,” dated July 28, 2020; and Colavita's Letter, “Certain Dry Pasta from Italy; C-475-819; Request for Administrative Review,” dated July 31, 2020.

On September 3, 2020, pursuant to these requests, and in accordance with 19 CFR 351.221(c)(1)(i), Commerce published a notice in the Federal Register initiating an administrative review of the CVD order on certain pasta from Italy.³ On November 30, 2020, Colavita withdrew its request for an administrative review.⁴ On December 2, 2020, CAMS, Armonie, and Fratelli withdrew their requests for an administrative review.⁵

³ See Initiation of Antidumping and Countervailing Duty Administrative Reviews, 85 FR 54983 (September 3, 2020).

⁴ See Colavita's Letter, “Certain Pasta from Italy: Withdrawal of Request for CVD Administrative Review of Indalco S.p.A,” dated November 30, 2020.

⁵ See CAMS' Letter, “Certain Dry Pasta from Italy; C-475-819; Withdraw Request for Administrative Review,” dated December 2, 2020; Armonie's Letter “Certain Dry Pasta from Italy; C-475-819; Withdraw Request for Administrative Review”; Fratelli's Letter “Certain Dry Pasta from Italy; C-475-819; Withdraw Request for Administrative Review”.

Rescission of Review

Pursuant to 19 CFR 351.213(d)(1), Commerce will rescind an administrative review, in whole or in part, if the party or parties that requested a review withdraws the request within 90 days of the publication date of the notice of initiation of the requested review. Armonie, CAMS, Colavita, and Fratelli withdrew their requests within 90 days of the publication date of the notice of initiation. No other parties requested an administrative review of the order. Therefore, in accordance with 19 CFR 351.213(d)(1), we are rescinding the administrative review of the CVD order on certain pasta from Italy covering January 1, 2019, through December 31, 2019, in its entirety.

Assessment

Commerce intends to instruct U.S. Customs and Border Protection (CBP) to assess countervailing duties on all appropriate entries of pasta from Italy during the POR. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: December 18, 2020.
James Maeder,
Deputy Assistant Secretary for Antidumping and Countervailing Duty Operations.

[FR Doc. 2020-28594 Filed 12-23-20; 8:45 am]

BILLING CODE 3510-DS-P